DEPARTMENT OF THE TREASURY

Submission for OMB Review; Comment Request

November 20, 2007.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 31, 2007 to be assured of consideration.

Internal Revenue Service (IRS)

OMB Number: 1545-2073.

Type of Review: Extension.

Title: Revenue Procedure 2007-37, Substitute Mortality Tables for single Employer Defined Benefit Plans.

Description: This revenue procedure describes the process for obtaining a letter ruling as to the acceptability of substitute mortality tables under section 430(h)(3)(C) of the Code.

Respondents: Farms, and not-for-profit institutions.

Estimated Total Burden Hours: 25,400 hours.

OMB Number: 1545-1897.

Type of Review: Extension .

Title: TD 9145 (Final and Temporary) Entry of Taxable Fuel.

Description: The regulation imposes joint and several liability on the importer of record for the tax imposed on the entry of taxable fuel into the U.S. and revises definition of “enterer”.

Respondents: Businesses and other for-profit institutions.

Estimated Total Burden Hours: 281 hours.

OMB Number: 1545-2076.

Type of Review: Extension.

Title: Capital Costs Incurred to Comply With EPA Sulfur Regulations.

Description: This temporary regulation provides rules for claiming the deduction allowable under section 179B of the Internal Revenue Code for qualified capital costs paid or incurred by a small business refiner. The temporary regulations provide the time and manner for: (i) A small business refiner to make the election to claim this deduction for the taxable year; and (ii) a cooperative small business refiner to make the election to allocate its deduction allowable under section 179B for the taxable year to the cooperative owners and to provide the written notice, as required by section 179B(e)(3), to the cooperative owners.

Respondents: Businesses and other for-profits.

Estimated Total Burden Hours: 50 hours.

OMB Number: 1545-2074.

Type of Review: Extension.

Title: The revenue procedure informs small business refiners how to obtain the certification required under section 45H(f) of the Internal Revenue Code.

Description: These regulations provide rules implementing the provisions of the Unemployment Compensation Amendments (Pub. L. 102-318) requiring 20 percent income tax withholding upon certain distributions from qualified pension plans or tax-sheltered annuities.

Respondents: Businesses and other for-profit institutions.

Estimated Total Burden Hours: 75 hours.

OMB Number: 1545-1895.

Type of Review: Extension.

Title: Revenue Procedure 2004-46, Relief from Late GST Allocation.

Description: This revenue procedure provides guidance to certain taxpayers in order to obtain an automatic extension of time to make an allocation of the generation-skipping transfer tax exemption. Rather than requesting a private letter ruling, the taxpayer may file certain documents directly with the Cincinnati Service Center to obtain relief.

Respondents: Individuals or households.

Estimated Total Burden Hours: 350 hours.

OMB Number: 1545-1885.

Type of Review: Extension.

Title: Announcement 2004-46, Son of Boss Settlement Initiative.

Description: The collected information is required to apply the terms of the settlement set forth in the announcement. The information will be used to determine whether the taxpayer has reported the disclosed item property for income tax purposes.

Respondents: Businesses or other for-profit institutions.

Estimated Total Burden Hours: 5,000 hours.

OMB Number: 1545-1343.

Type of Review: Extension.

Title: PS-100-88 (Final) Valuation Tables.

Description: The regulations require individuals or fiduciaries to report information on Forms 706 and 709 in connection with the valuation of an annuity, an interest for life or a term of years, or a remainder or reversionary interest.

Respondents: Individuals or households.

Estimated Total Burden Hours: 4,500 hours.

OMB Number: 1545-1908.

Type of Review: Extension.

Title: REG-121475-03 (Final) Qualified Zone Academy Bonds: Obligations of States and Political Subdivision.

Description: The agency needs the information to ensure compliance with the requirement under the regulation that the taxpayer rebates the earnings on the defeasance escrow to the United States. The agency will use the notice to ensure that the respondent pays rebate when rebate becomes due. The respondent are state and local governments that issue qualified zone academy bonds under Sec. 1397E of the IRC.

Respondents: State, local, or tribal governments.

Estimated Total Burden Hours: 3 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-23155 Filed 11-28-07; 8:45 am]

BILLING CODE 4830-01-P